DEPARTMENT OF ENERGY

Federal Energy Regulatory Commission

[Docket No. PL03-6-000]

Natural Gas Markets Conference; Agenda for the Conference

October 9, 2003.

1. As announced in the Notice of Conference issued September 23, 2003, and clarified in the Supplemental Notice issued October 3, 2003, the Federal Energy Regulatory Commission (FERC) will convene a public conference on October 14, 2003 at 9:00 a.m. in the Commission Meeting Room.

2. The purpose of this conference is to discuss the findings and recommendations contained in the National Petroleum Council's (NPC) report, Balancing Natural Gas Policy—Fueling the Demands of a Growing Economy,¹ and to explore any other issues the Commission should consider in shaping its future regulatory policies concerning the natural gas industry. Issues contained in contested cases pending before the Commission will not be discussed. Attached is the Agenda for the conference.

3. All interested persons are invited to attend. No registration is required for attendance. All visitors must check-in at the 888 First Street NE., entrance and have picture identification readily available to ensure quick admittance to the building.

¹The NPC Report's summary of findings and recommendations was released by the NPC on September 25, 2003, and is available on the NPC Web site at http://www.npc.org. The entire integrated report is scheduled to be released by the NPC on or about the day of the conference on its web site. Printed copies of the integrated report will not be distributed at the conference.

Magalie R. Salas,
Secretary.

Attachment: The Agenda

Opening Remarks—9-9:10 a.m.

Pat Wood, III, Chairman, FERC

Introduction of NPC Report—9:10-9:30 a.m.

Richard D. Kinder, Vice Chair, Midstream, NPC

Jerry Langdon, Chair, Coordinating Subcommittee, NPC

Panel 1—Outlook for Gas Supply—9:30-11 a.m.

Mark A. Sikkel, Chair, Supply Task Group, NPC

William N. Strawbridge, Assistant to Supply Chair

Gerry A. Worthington, Leader, Resource Subgroup

John Hritcko, Jr. Leader, LNG Subgroup

Panel 2—Outlook for Gas Demand—11 a.m.-12:30 p.m.

David J. Manning, Chair, Demand Task Group, NPC

Harlan Chappelle, Assistant to Demand Chair

Keith Barnett, Leader, Power Generation Subgroup

Dena E. Wiggins, Leader, Industrial Utilization Subgroup

Discussion of NPC Presentations—12:30-1 p.m.

Lunch—1-1:45 p.m.

Panel 3—Outlook for Infrastructure 1:45-3:15 p.m.

Scott E. Parker, Chair, Transmission & Distribution Task Group, NPC

Ronald L. Brown, Assistant to T & D Chair

Mark T. Maassel, Leader, Distribution Subgroup

Richard C. Daniel, Storage Subgroup

Patrick A. Johnson, Leader, Transmission Subgroup

Discussion of NPC Presentation—3:15-3:45 p.m.

Open Forum on Non-NPC Issues—4 p.m.-End

[FR Doc. E3-00262 Filed 11-14-03; 8:45 am]

BILLING CODE 6717-01-P